FEDERAL ELECTION COMMISSION

Sunshine Act Meeting

TIME AND DATE: Thursday, February 17, 2022 at 11:00 a.m.

PLACE: 1050 First Street NE, Washington, DC. (This meeting will be a virtual meeting).

STATUS: This meeting will be closed to the public.

MATTERS TO BE CONSIDERED: Audit conducted pursuant to 52 U.S.C. 30111(b).

* * * * *

CONTACT PERSON FOR MORE INFORMATION: Judith Ingram, Press Officer. Telephone: (202) 694-1220.

Authority: Government in the Sunshine Act, 5 U.S.C. 552b.

Laura E. Sinram,
Acting Secretary and Clerk of the Commission.

[FR Doc. 2022-03291 Filed 2-11-22; 11:15 am]

BILLING CODE 6715-01-P